NATIONAL SCIENCE FOUNDATION

Special Emphasis Panel in Biological Sciences; Notice of Meeting

In accordance with the Federal Advisory Committee Act (Pub. L. 92-463, as amended), the National Science Foundation announces the following meeting:

Name: Special Emphasis Panel in Biological Sciences (1754).

Date/Time: March 28-30, 2001, 8am-5pm.

Place: Room 370, National Science Foundation, 4201 Wilson Blvd., Arlington, VA.

Type of Meeting: Closed.

Contact Person: Dr. Sylvia Spengler, Division of Biological Infrastructure, Rm 615, National Science Foundation, 4201 Wilson Blvd., Arlington, VA 22230, (703) 292-8470.

Purpose of Meeting: To provide advice and recommendations concerning proposals submitted to the NSF for financial support.

Agenda: To review and evaluate Biological Database & Informatics proposals as part of the selection process for awards.

Reason For Closing: The proposals being reviewed include information of a proprietary or confidential nature, including technical information; financial data, such as salaries; and personal information concerning individuals associated with the proposals. These matters are exempt under 5 U.S.C. 552b(c)(4) and (6) of the Government Sunshine Act.

Dated: March 1, 2001.
Susanne Bolton,
Committee Management Officer.

[FR Doc. 01-5469 Filed 3-6-01; 8:45 am]

BILLING CODE 7555-01-M